DEPARTMENT OF DEFENSE

Department of the Army, Corps of Engineers

Availability of the Draft Environmental Impact Statement for the White River Minimum Flow Reallocation Study, AR

Correction

In notice document 06-5057 beginning on page 32060 in the issue of Friday, June 2, 2006, make the following corrections:

1. On page 32060, in the second column, under the heading FOR FURTHER INFORMATION CONTACT, in the last line, the e-mail address should read “mike.l.biggs@swl02.usace.army.mil”.

2. On the same page, in the same column, under the heading SUPPLEMENTARY INFORMATION, in the 22nd line from the bottom, “Forsythia” should read “Forsyth”.

[FR Doc. C6-5057 Filed 6-13-06; 8:45 am]

BILLING CODE 1505-01-D

FEDERAL COMMUNICATIONS COMMISSION

47 CFR Part 27

[ET Docket No. 00-258; WT Docket No. 02-353; FCC 06-45]

Advanced Wireless Service

Correction

In rule document 06-4769 beginning on page 29818 in the issue of Wednesday, May 24, 2006, make the following correction:

PART 27—[Corrected]

On page 29835, in the second column, the heading “Subpart L—1710-1755 MHz, 2160-2180 MHz Bands” should read “Subpart L—1710-1755 MHz, 2110-2155 MHz, 2160-2180 MHz Bands”.

[FR Doc. C6-4769 Filed 6-13-06; 8:45 am]

BILLING CODE 1505-01-D

DEPARTMENT OF HOMELAND SECURITY

Customs and Border Protection

Distribution of Continued Dumping and Subsidy Offset to Affected Domestic Producers

Correction

In notice document 06-4937 beginning on page 31336 in the issue of Thursday, June 1, 2006, make the following correction:

On page 31340, the graphic shown is a duplication of a graphic first found on page 31339.

[FR Doc. C6-4937 Filed 6-13-06; 8:45 am]

BILLING CODE 1505-01-D